DEPARTMENT OF AGRICULTURE

Food and Nutrition Service

Agency Information Collection Activities: Proposed Collection; Comment Request—Evaluation of Demonstration Projects To End Childhood Hunger

AGENCY: Food and Nutrition Service (FNS), USDA.

ACTION: Notice.

SUMMARY: In accordance with the Paperwork Reduction Act of 1995, this notice invites the general public and other public agencies to comment on this proposed information collection. This is a new collection for the contract Evaluation of Demonstration Projects to End Childhood Hunger.

DATES: Written comments must be received on or before February 27, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Written comments may be sent to: Danielle Berman, Office of Policy Support, Food and Nutrition Service, USDA, 3101 Park Center Drive, Room 1014, Alexandria, VA 22302.

Comments may also be submitted via fax to the attention of Danielle Berman at 703-305-2576 or via email to Danielle.Berman@fns.usda.gov.

Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Danielle Berman, Office of Policy Support, Food and Nutrition Service, USDA, 3101 Park Center Drive, Room 1014, Alexandria, VA 22302.

SUPPLEMENTARY INFORMATION:

Title: Evaluation of Demonstration Projects to End Childhood Hunger.

Form Number: N/A.

OMB Number: 0584-NEW.

Expiration Date: Not Yet Determined.

Type of Request: New Collection.

Abstract: The Healthy, Hunger-Free Kids Act (HHFKA) of 2010 (Public Law 111-296), under Section 141, added a new Section 23 on Childhood Hunger Research to the Richard B. Russell National School Lunch Act.

This section provides substantial new mandatory funding to research the causes and consequences of childhood hunger and to test innovative strategies to end child hunger and food insecurity. Congress called for the development and evaluation of innovative strategies to “reduce the risk of childhood hunger or provide a significant improvement to the food security status of households with children,” including alternative models of service delivery or benefit levels.

The purpose of the evaluation is to rigorously assess the impact of five demonstration projects on the prevalence of child food insecurity, and other relevant outcomes. The demonstration projects are intended to test innovative strategies to end childhood hunger, including alternative models for service delivery and benefit levels that promote the reduction or elimination of childhood hunger and food insecurity. Projects may include enhanced Supplemental Nutrition Assistance Program (SNAP) benefits for eligible households with children; enhanced benefits or innovative program delivery models in school meals programs, afterschool snacks programs, and the Child and Adult Care Food Program (CACFP); and other targeted Federal, State or local assistance, including refundable tax credits, emergency housing, employment and training, or family preservation services, for households with children who are experiencing food insecurity. At least one demonstration must be implemented in a rural Indian reservation where the prevalence of diabetes exceeds 15 percent. Demonstration projects will be selected and announced in early 2015.

The evaluation will collect data from all five demonstration projects in 2015 and 2016 (two rounds of data collection), and from one demonstration project in 2017 (three rounds of data collection). The data will be used for implementation, cost, and impact analyses for each demonstration project. Analyses include (1) which agencies and partner organizations delivered services, (2) whether the way the demonstration model was implemented has an effect on any observed impacts, (3) the resources used in planning, starting up, and operating each demonstration project, and how those resources compare to those for the control or comparison groups, and (4) how cost effective the demonstration was in reducing childhood food insecurity. The primary outcome measure for the demonstrations will be the change in the prevalence of food insecurity among children in households with children as measured by the U.S. Household Food Security Survey Module. The end products will provide scientifically valid evidence of demonstration project impacts.

Affected Public: Individuals/households; State, local and Tribal governments; Private sector (for-profit and not-for-profit).

Estimated Number of Respondents: The total estimated number of respondents is 27,297. This includes 27,107 individuals/households, 150 State, local, and Tribal government directors/managers and staff, and 40 private sector for-profit business and not-for-profit agency directors/managers. FNS will contact 27,107 individuals/households, out of which 22,589 parents/guardians in the treatment and comparison groups will complete telephone surveys and 4,518 parents/guardians will be survey nonrespondents. The survey sample sizes are large because they are needed to detect statistically significant differences in the key outcome of interest—child food insecurity—between treatment and comparison households within each demonstration site. Among the parents/guardians contacted for the telephone surveys, 456 will also be contacted for the focus groups; 96 parents/guardians will participate in the focus groups and 360 will be considered nonrespondents. A total of 320 parents/guardians will also be contacted for an in-person interview; 80 parents/guardians will be interviewees and 240 will be considered nonrespondents. FNS will contact 50 State, local and Tribal agency directors/managers and 100 State, local and Tribal agency direct service staff for in-person interviews; 5 of the directors/managers will provide administrative data and 5 will provide cost data. FNS will contact 10 private sector for-profit business directors/managers for in person interviews; 5 will also provide administrative data. FNS will also contact 30 private sector not-for-profit agency directors/managers for in person interviews, and 5 will also provide cost data.

Estimated Frequency of Responses per Respondent: Average 2.09 responses for individuals/households, 3.20 responses for State, local or Tribal government representatives, and 5.90 responses for private sector representatives.

Estimated Total Annual Responses: 57,458.

Estimated Time per Response: About 0.51 hours (31 minutes). The estimated time of response varies from 0.50 to 2.33 hours depending on the respondent group, as shown in the table below. The total annual burden is 25,157.13 hours.

Affected public | Data collection activity | Respondents type | Sample size | Respondents: Estimated number of respondents | Respondents: Frequency of response | Respondents: Total annual responses | Respondents: Average burden hours per response | Respondents: Total annual burden estimate (hours) | Non-respondents: Estimated number of non-respondents | Non-respondents: Frequency of response | Non-respondents: Total annual responses | Non-respondents: Average burden hours per response | Non-respondents: Total annual burden estimate (hours) | GRAND total burden estimate
Individuals/households | Telephone survey (two rounds) | Parent/guardian | 24,755 | 20,629 | 2 | 41,258 | 0.50 | 20,629.00 | 4,126 | 2 | 8,252 | 0.05 | 412.60 | 21,041.60
| Telephone survey (three rounds) | Parent/guardian | 2,352 | 1,960 | 3 | 5,880 | 0.50 | 2,940.00 | 392 | 3 | 1,176 | 0.05 | 58.80 | 2,998.80
| In-person focus group | Parent/guardian | 456 | 96 | 1 | 96 | 1.67 | 160.13 | 360 | 1 | 360 | 0.08 | 28.80 | 188.93
| In-person interview | Parent/guardian | 320 | 80 | 1 | 80 | 1.67 | 133.60 | 240 | 1 | 240 | 0.08 | 19.20 | 152.80
Subtotal individuals/households |  |  | 27,107 | 22,589 |  | 47,314 |  | 23,862.73 | 4,518 |  | 9,428 |  | 519.40 | 24,382.13
State, local, and Tribal government | In-person interview (two rounds) | State, local, or Tribal agency director/manager | 40 | 40 | 2 | 80 | 1.00 | 80.00 | 0 | 2 | 0 | 0.08 | 0.00 | 80.00
| In-person interview (three rounds) | State, local, or Tribal agency director/manager | 10 | 10 | 3 | 30 | 1.00 | 30.00 | 0 | 3 | 0 | 0.08 | 0.00 | 30.00
| In-person interview (two rounds) | State, local, or Tribal agency direct service staff | 80 | 80 | 2 | 160 | 1.00 | 160.00 | 0 | 2 | 0 | 0.08 | 0.00 | 160.00
| In-person interview (three rounds) | State, local, or Tribal agency direct service staff | 20 | 20 | 3 | 60 | 1.00 | 60.00 | 0 | 3 | 0 | 0.08 | 0.00 | 60.00
| Provide administrative data | State, local, or Tribal agency director/manager | 5 | 5 | 24 | 120 | 0.83 | 99.60 | 0 | 1 | 0 | 0.08 | 0.00 | 99.60
| Provide cost data | State, local, or Tribal agency director/manager | 5 | 5 | 6 | 30 | 2.33 | 69.90 | 0 | 1 | 0 | 0.08 | 0.00 | 69.90
Subtotal State, local, and Tribal government |  | 150 | 150 |  | 480 |  | 499.50 | 0 |  | 0 |  | 0.00 | 499.50
Private sector | In-person interview | Private sector for-profit business director/manager | 10 | 10 | 2 | 20 | 0.50 | 10.00 | 0 | 2 | 0 | 0.08 | 0.00 | 10.00
| Provide administrative data | Private sector for-profit business director/manager | 5 | 5 | 24 | 120 | 0.83 | 99.60 | 0 | 1 | 0 | 0.08 | 0.00 | 99.60
| In-person interview (two rounds) | Private sector not-for-profit agency director/manager | 24 | 24 | 2 | 48 | 1.00 | 48.00 | 0 | 2 | 0 | 0.08 | 0.00 | 48.00
| In-person interview (three rounds) | Private sector not-for-profit agency director/manager | 6 | 6 | 3 | 18 | 1.00 | 48.00 | 0 | 3 | 0 | 0.08 | 0.00 | 48.00
| Provide cost data | Private sector not-for-profit agency director/manager | 5 | 5 | 6 | 30 | 2.33 | 69.90 | 0 | 1 | 0 | 0.08 | 0.00 | 69.90
Subtotal private sector |  |  | 40 | 40 |  | 236 |  | 275.50 | 0 |  | 0 |  | 0.00 | 275.50
Grand total |  |  | 27,297 | 22,779 | 2.11 | 48,030 | 0.51 | 24,637.73 | 4,518 | 2.09 | 9,428 | 0.06 | 519.40 | 25,157.13

Dated: December 16, 2014.
Audrey Rowe,
Administrator, Food and Nutrition Service.

[FR Doc. 2014-30373 Filed 12-24-14; 8:45 am]

BILLING CODE 3410-30-P